DEPARTMENT OF HEALTH AND HUMAN SERVICES

Office of the Secretary

Office of Resources and Technology, Statement of Organization, Functions, and Delegations of Authority

Part A, Office of the Secretary, Statement of Organizations, Functions and Delegations of Authority for the Department of Health and Human Services (HHS) is being amended at Chapter AM, “Office of Budget, Technology and Finance (OBTF),” which was last amended at 70 FR 42321, dated July 22, 2005. This amendment will retitle, Chapter AM, “Office of Budget, Technology and Finance,” as the Office of Resources and Technology; and realign the functions of Chapter AMS, “Office of Finance,” and Chapter AMT, “Office of Grants.” The changes are as follows:

Under Chapter AM, “Office of the Assistant Secretary for Budget, Technology and Finance,” make the following changes:

A. Retitle Chapter AM, “Office of the Budget, Technology and Finance (OBTF),” as the “Office of Resources and Technology (ORT),” and the “Assistant Secretary for Budget, Technology and Finance,” as the “Assistant Secretary for Resources and Technology (ASRT)”; and change all references within HHS of OBTF to read ORT, and of ASBTF to read ASRT.

B. Under Section AM.20 Functions, make the following changes:

1. Under paragraph D, “Office of Finance (AMS),” delete in its entirety and replace with the following:

D. Chapter AMS, Office of Finance (AMS)

Section AMS.00 Mission. The Office of Finance is headed by the Deputy Assistant Secretary for Finance, who is also the Deputy Chief Financial Officer. The Office of Finance advises and supports the Secretary and the Assistant Secretary for Resources and Technology/CFO on all aspects of financial activities to accomplish departmental goals and program objectives. The mission of the office as directed by the Assistant Secretary for Resources and Technology is to: (1) Oversee the design and implementation of a unified financial management system (UFMS) for the Department (the UFMS is an umbrella system for the Department of which the Health Care Integrated General Ledger System (HIGLAS) at the Center for Medicare and Medicaid Services (CMS) and the National Institutes of Health Business System (NBS) are significant parts); (2) coordinate CFO activities and the preparation of reports throughout HHS, including the audited financial statements and the annual Performance and Accountability Report (PAR) for submission to the OMB and Congress; (3) participate in the clearance/approval process for program information systems that provide financial and/or program performance data which are used in financial statements in coordination with other ORT components; (4) provide advice to the ASRT/CFO and recommend approval of the job descriptions, skills requirements and selection of OPDIV CFOs; (5) provide advice to the ASRT/CFO who participates with each OPDIV Head in the annual performance plan/evaluation of the OPDIV CFOs; (6) provide advice to the ASRT/CFO on the qualifications, recruitment, performance, training and retention of all financial management personnel; (7) serve as the Department liaison with the Office of Management and Budget (OMB), Department of the Treasury, the General Services Administration (GSA) and other Federal agencies; (8) develop and maintain Departmental finance and accounting standards; (9) resolve findings involving grantee financial/management systems; (10) ensure compliance with the Departmental and government-wide reporting requirements of Section 2 and Section 4 of the Federal Managers' Financial Integrity Act (FMFIA) and the revised OMB Circular A-123, including requirements for an annual assurance on Internal Controls Over Financial Reporting (ICOFR); (11) establish Department policy for the resolution of findings included in Office of Inspector General (OIG) reports and audits; and (12) oversee other activities to improve financial management throughout the Department.

Section AMS.10 Organization. The Office of Finance (OF) is headed by the Deputy Assistant Secretary for Finance (DASF), who is also the Deputy Chief Financial Officer, and reports to the Assistant Secretary for Resources and Technology/Chief Financial Officer (CFO). The Office includes the following:

○ Immediate Office (AMS)

○ Office of Financial Policy and Reporting (AMSI)

○ Office of Program Management and Systems Policy (AMS2)

Section AMS.20 Functions

1. Immediate Office (AMS). The Immediate Office is responsible for support and coordination of the Office of Finance components in their management of the areas listed under section AMS.00 Mission above, especially for ensuring compliance with the Departmental reporting requirements of the Federal Managers' Financial Integrity Act (FMFIA) as Departmental FMFIA Coordinator. In addition, the Immediate Office recommends ASRT/CFO approval of the job description and skill requirements for OPDIV CFOs, advises the ASRT/CFO on the selection of OPDIV CFOs; and advises the ASRT/CFO regarding the annual performance plan/evaluation of each OPDIV CFO. The office also provides guidance on the qualifications, recruitment, training and retention of all financial management personnel.

2. Office of Financial Policy and Reporting (AMS1). The Office of Financial Policy and Reporting (OFPR) consists of:

○ Division of Financial Management Policy (AMS11)

○ Division of Financial Statements and Audit (AMS12)

a. Division of Financial Management Policy (AMS11). The Division of Financial Management Policy (DFMP):

(1) Ensures that proper internal controls are implemented and maintained under OMB Circular A-123, Management's Responsibility for Internal Control;

(2) Coordinates with the OPDIVs in the preparation of the corrective action plan (CAP), which is submitted quarterly to OMB and reflects the material weaknesses and reportable conditions from the annual CFO audit and the Federal Managers' Financial Integrity Act (FMFIA) report;

(3) Develops Department-wide policies, procedures, and standards for financial management areas including cash management, credit management, debt management, payment and disbursement activities and functions, and promulgates these and related government-wide financial management requirements through the Departmental Accounting Manual system;

(4) Establishes a financial management planning process for the development of strategic and tactical plans, and provides guidance and financial management indicators that enable the ASRT/CFO to evaluate the financial management programs and activities of the Department;

(5) Provides support to the OPDIV CFOs for financial planning and improvement initiatives;

(6) Serves as principal staff advisor on financial management policy matters to the Office of Finance;

(7) Maintains liaison with OMB, the Treasury, the GSA and other agencies on financial management policy matters;

(8) Prepares, analyzes, coordinates and assesses financial data reflecting financial, accounting and performance information of the Departmental financial activities;

(9) Recommends policy and maintains a system for tracking and improving cash and credit management and debt collection performance throughout the Department;

(10) Prepares the annual HHS report on CFO activities as guided by the DASF/Deputy CFO.

b. Division of Financial Statements and Audit (AMS12): The Division of Financial Statements and Audits:

(1) Oversees the preparation and submission of quarterly and annual consolidated financial statements for the Departments;

(2) Acts as the principal contact with the OIG in planning the annual financial statement audit strategy under the CFO Act and the 1994 amendments under the Government Management Reform Act (GMRA);

(3) Reviews and interprets OMB, GAO, Treasury and Federal Accounting Standards Board (FASAB) guidance related to government wide accounting policy and standards and develops the Department's policy for implementation of these requirements and assures that policies and procedures are in accordance with internal control and reporting standards of financial management activities;

(4) Develops uniform business rules, data standards and accounting policy and procedures in support of new financial system implementations. Ensures the development of ongoing accounting policy that further supports the consistent development and implementation of these systems;

(5) Provides advice an assistance to OPDIVs and STAFFDIVs on financial accounting and related fiscal matters, and advises the DASF on such matters as they relate to financial system implementations;

(6) Maintains liaison with OMB, the Treasury, and other agencies on accounting, financial policy and fiscal matters;

(7) Maintains the Departmental Accounting Manual (DAM) which is the official accounting standard for recording and reporting accounting transactions;

(8) Provides advice and assistance to OPDIVs and STAFFDIVs on financial accounting and related fiscal matters, government-wide accounting standards and serves as principal advisor to the DASF as it relates to financial statement preparation, audit and financial reporting.

3. Office of Program Management and Systems Policy (AMS2). The Office of Program Management and Systems Policy (OPMSP) has the following components:

○ Program Management Office (AMS21)

○ Division of Systems Policy, Payment Integrity and Audit Resolution (AMS22)

a. Program Management Office (AMS21): The Program Management Office (PMO) is responsible for overseeing the design and implementation of enterprise financial management systems, with a current priority on the unified financial management system (UFMS) consistent with the Secretary's June 2001 directive. The system consists of two major components: the Healthcare Integrated General Ledger Accounting System (HIGLAS) at the Centers for Medicare and Medicaid Services (CMS) and a system for the rest of the Department. The office's responsibilities include:

(1) Serving as a focal point for (1) overseeing the design, development, and implementation of the UFMS and the development of life-cycle and budgetary plans; (2) monitoring the milestones and schedules as well as budget expenditures; and (3) the mediation and coordination of activities throughout all levels of HHS;

(2) Ensuring that the UFMS complies with applicable Federal accounting concepts and standards, as well as HHS accounting policies and procedures;

(3) Ensuring that business requirements are met, the future direction of the initiative is consistent with HHS planning, and the status of the project is appropriately communicated to internal and external organizations;

(4) Overseeing a comprehensive program of change management that includes addressing Departmental communication, training plans and human resource issues;

(5) Coordinating with workgroups to maximize the input from the cross-functional areas of HHS into the implementation process; and

(6) Overseeing risk management plans to ensure that risk to the program are identified and effective mitigation strategies developed.

b. Division of Systems Policy, Payment Integrity, and Audit Resolution (AMS22). The Division is responsible for overseeing the financial systems policy, payment integrity and audit resolution functions:

(1) The financial system policy function oversees Department-wide financial systems policy development and implementation for HHS financial and mixed financial systems for adherence to government-wide and Departmental financial systems policy and standards; oversees the Department's compliance with the Federal Financial Management Improvement Act of 1996 and Section 4 of the Federal Managers' Financial Integrity Act; and helps ensure the financial accountability for these systems in conjunction with the HHS Office of Chief Information Officer. This includes the following functions:

(a) Develops Department-wide policies and standards for financial and mixed financial systems;

(b) Provides advice and serves as the focal point with OMB, Treasury and other Federal control agencies on financial systems compliance matters;

(c) Provides for the establishment of Department-wide financial definitions and data structures;

(d) Provides for the administration of a data integrity and quality control program to ensure compliance with applicable Federal directives, Departmental financial systems policy and automated financial data exchange requirements;

(e) Manages the Capital Planning Investment Control (CPIC) process and the OMB Exhibit 300 business case development and review process for IT systems including financial management systems throughout HHS in support of the Department's Information Technology Investment Review Board (ITIRB);

(f) Oversees and monitors existing Department-wide and component accounting and financial management systems;

(g) Advises the DASF on financial systems related matters in collaboration with the Office of Financial Policy and Reporting; and

(2) The payment integrity function oversees the Department's improper payment reduction initiatives which include recovery auditing, program risk assessments, estimating and reducing improper payments for high risk programs and reporting to OMB, Congress, and others on these estimates and the Department related actions. This includes:

(a) Providing analyses of high risk programs and improper payment identification strategies and formulating recommendations on best approaches to meeting the requirements of the Improper Payments Information Act of 2002 (IPIA) and other related legislation, regulation and policy;

(b) Identifying improvements to the HHS Risk Assessment Model and providing assistance to the OPDIVs in completing required IPIA program risk assessments, and addressing issues as they arise about the appropriateness of risk assessment conclusions;

(c) Preparing reports, presentations and briefings for the Department's top management, OPDIVs, OMB and other organizations, on the improper payment initiative. This includes preparing the Appendix “Information on HHS Improper Payment and Recovery Auditing Initiative,” which is included in the Department's annual Performance and Accountability Report (PAR).

(3) The audit resolution function provides leadership in resolving crosscutting audit findings. It performs the following functions:

(a) Reviews and resolves audit findings pertaining to monetary and/or systemic findings of grantee and contractor organizations affecting the programs of more than one Operating or Staff Division or Federal agencies. Conducts or arranges for additional reviews as needed;

(b) Coordinates, where necessary, with other affected Federal agencies to establish a uniform Federal position on the actions needed to be taken and negotiates resolution on behalf of all Federal Departments and agencies;

(c) Makes recommendations to the Secretary, the ASRT and other officials on safeguards or other actions against a grantee or contractor, where the organization is unwilling or unable to correct serious deficiencies in a timely manner as deemed necessary;

(d) Provides technical assistance to grantees, contractors, and other Operating and Staff Divisions related to the resolution of findings contained in audits of HHS awardees and financial management of grants and contracts;

(e) Establishes and monitors policy regarding audit issuance, follow-up and resolution for the Department in support of the function of the HHS audit follow-up official as required by OMB Circular A-50;

(f) Oversees the submission of required grantee audit reports;

(g) Coordinates status of final action on OS audits with the ASRT Office of Budget; and

(h) Prepares the Management Report on Final Action for the Department's annual Performance and Accountability Report.

2. Under paragraph E, “Office of Grant (AMT),” delete in its entirety and replace with the following:

E. Chapter AMT, Office of Grants (AMT)

Section AMT.00 Mission. The Office of Grants (OG) provides functional management directions in the areas of grants policy, grants oversight and evaluation, electronic grants, and grants streamlining. Provides Department-wide leadership in these areas through policy development, oversight and training. Provides Departmental and government-wide leadership on PL 106-107 implementation, Electronic Grants, and other HHS-led initiatives. Represents the Department in dealing with OMB, GSA and other Federal agencies in the areas of mandatory and discretionary grants, and electronic grants. Fosters creativity, collaboration, consolidation, and innovation in the administration of grants functions through the Department.

Section AMT.10 Organization. The Office of Grants (OG) is headed by a Deputy Assistant Secretary for Grants who reports directly to the Assistant Secretary Resources and Technology, and consists of the following components:

• Immediate Office of Grants (AMT)

• Office of Grants Policy, Oversight and Evaluation (AMT1)

• Office of Grants Systems Modernization (AMT2)

Section AMT.20 Functions

1. Immediate Office of Grants (AMT). The Immediate Office of Grants provides leadership, policy, and guidance and supervision, as well as coordinating long- and short-range planning to constituent organizations. The office supports the government-wide electronic grants initiative, including the outreach to grantors and grantees efforts, and interface with OMB, Federal CIO Council, and HHS leadership on the Grants.gov systems. Also, provides technical assistance to the Operating Divisions and evaluates effectiveness of their grant programs, including the development of performance standards and grant processing systems.

2. Office of Grants Policy, Oversight and Evaluation (AMT1). The Office of Grants Policy, Oversight and Evaluation (OGPOE) reports to the Deputy Assistant Secretary for Grants, and:

a. Formulates Department-wide grants policies governing the management of grants throughout the Department; establishes uniform administrative rules; and provides oversight and review.

b. Provides leadership in the areas of managing cost policy and has functional responsibility for cost principles and Department-wide cost policies and procedures affecting grants and contracts. Serves as the Departmental liaison and maintains working relationship with OMB and other Federal agencies in the development of government-wide cost principles; maintains similar relationships with associations of States, universities and other grantee and contractor organizations. Upon request, reviews and approves accounting or other systems developed by grantees and contractors to meet Federal cost principle requirements.

c. Develops HHS-wide and Government-wide grants management policy for Federal agencies, OPDIVs and STAFFDIVs awarding grants.

d. Develops new or improved Department-wide grant policy, which brings the Department to and maintains it at the cutting edge of new ideas in the grants management profession. Reviews trends in the field in both public and private sectors, articulates new concepts and creative adaptation of others' pioneering efforts, tests new approaches in a systematic manner, with key offices in Government-wide policy organizations and HHS components, develops and implements HHS grants management regulations, and publishes new policies and modifications in the HHS Grants Policy Directives (GPDs), including all directives necessary to implement new intergovernmental and HHS policies.

e. Implements requirements in the Federal Grant and Cooperative Agreement Act, the Federal Financial Assistance Management Improvement Act, OMB Circulars related to grants management, and other relevant legislation and Government-wide policy. Coordinates their implementation by the OPDIVs and STAFFDIVs, and provides technical assistance and policy interpretations to the OPDIVs and STAFFDIVs.

f. Assists in the preparation of HHS and Government-wide positions on proposed legislation or proposed Government-wide policies concerning grants. Responds to correspondence and inquiries from State and local government officials, grantees and stakeholders.

g. Develops and manages the HHS grants evaluation and oversight procedures to ensure compliance with grants policy and to assure that the policies, business practices, and actual performance of OPDIV and STAFFDIV's grants management offices are performed efficiently, and the government's legal and financial interests are protected. Develops Departmental requirements and criteria for performance of functions and creates review evaluation models, which can be adapted by the OPDIVs and STAFFDIVs for self-evaluation. Evaluates the adequacy of reviews and assesses the completeness or prognosis for success of action plans. Aggregates findings from a variety of sources to identify patterns, e.g., analyzes evaluation and oversight reports from internal HHS sources and from external sources such as GAO to identify trends/patterns and problem areas for the purpose of identifying alternative approaches.

h. Represents the Department in interagency grants management activities. Provides counsel and direction on OMB Circulars, GAO reports, and OIG reports.

i. Leads the Departmental grants community through the Executive Committee on Grants Administration Policy (ECGAP), made up of the senior grants managers in the OPDIV/ and STAFFDIVs, and manages the design and implementation of HHS grants management conferences to provide state-of-the-art information to Departmental officials.

j. Develops a strategic management approach to career development for grants management professionals both within the Department and Government-wide. Takes the lead among senior grants management officials from major agencies participating on the HHS Career Services Board to define and update a competency-based training model, certification model and career development system for application Department-wide. Within a career management approach, develops and keeps current the training and development program, which meets the unique policies and needs of HHS, and produces a fully certified workforce among HHS grants management professionals. Ensures the development of comprehensive evaluation procedures to guarantee not only complete substantive information, but also full and appropriate use of state-of-the-art adult learning technologies. Negotiates with senior officials in other Departments to manage cross-servicing agreements for them to access HHS grants management training and development models and training and to develop tailored approaches to meet their unique needs.

k. Establishes approach and methodology to conduct evaluations to assess the effectiveness of the grants awarded and the grantees receiving the awards, including the design of overall plans and strategies for the projects in order to meet mission or program goals, requirements and time frames, to support results-based management of grants.

l. Coordinates the review of OPDIV/STAFFIDV grant announcements policies to ensure consistency with the Secretary and the Administration's Priorities and Initiatives, in addition for compliance with Department-wide grants policies and grant regulations.

m. Serves as the Department's liaison in the area of grants and maintains working relationships with OMB, GSA and other Federal agencies to coordinate and assist in the development of policy.

3. Office of Grants Systems Modernization (ATM2) The Office of Grants Systems Modernization (OGSM) reports to the Deputy Assistant Secretary for Grants, and consists of the following components:

○ Grants.gov Program Management Division (AMT21)

○ Division of Grants Streamlining Initiative (AMT22)

○ Division of Grants Management Systems (AMT23)

a. Grants.gov Program Management Division (AMT21): The Grants.gov Program Management Division (GPMD) provides leadership to federal and non-federal members of the Grant Community. The GPMD is responsible for the continued enhancement and development of a common, unified Web site and the accompanying business processes for “Finding” and “Applying” for government-wide grant opportunities. The division reports to the Director, Office of Grants Systems Modernization, and:

(1) Manage and collects the Grants.gov fee-for-service contributors from the 26 grant-making agencies utilizing a Memorandum of Understanding (MOU) and supports the agencies through Service Level Agreements.

(2) Serves as a liaison to ensure coordination with OMB, Federal CIO Council, Grants Policy Committee and HHS leadership and other oversight organizations on the government-wide electronic grants initiative.

(3) Enable the government to meet many of the streamlining activities required by Public Law 106-107.

(4) Monitors Grants.gov milestones established with OMB to ensure they are met within cost and schedule parameters including HHS pass back re: E-Authentication Security Assertion Markup Language (SAML), multiple credential providers.

(5) Coordinates and promotes the use of other government-wide initiatives in conjunction with the Grants.gov initiative (e.g., E-Authentication, Central Contractor Registration (CCR)).

(6) Prepares the OMB Exhibit 300 and Grants.gov Business case.

(7) Formulates government-wide policy governing the Grants.gov. Find and Apply functions and coordination with the PL 106-107 PMO and Grants Policy Committee of the Counsel of the Chief Financial Officers.

(8) Manages the clearance and revision of government-wide grant forms.

(9) Monitors the adoption of government-wide grant policies and procedures as they affect Grants.gov to ensure compliance.

(10) Manages and provides oversight of the Grants.gov initiative; conducts and coordinates outreach and training for grants management professionals, grantees and grantors.

b. Division of Grants Streamlining Initiative (AMT22): This Division, established within HHS as the OMB-designated lead agency for implementation of Public Law 106-107, coordinates and provides program management support to the Work Groups and other interagency groups implementing Public Law 106-107. The Federal Financial Assistance Management Improvement Act of 1999, also known as Public Law 106-107, is the statute that underlies the agencies' efforts to streamline and simplify the grants and cooperative agreements administrative process. The Public Law 106-107 PMO is under the oversight of the Grants Executive Board and reports to the Director, Office of Grants Systems Modernization.

(1) Coordinate PMO.

(2) Establish and maintain business processes for Public Law 106-107 work product development, approval, agency vetting, public comment, public comment reconciliation and restructuring of product and final pass off to OMB, the Federal Register, and Grants.gov (when applicable).

(3) Manage the Public Law 106-107 funds, budget (justification) and expenditures.

(4) Collect data and conduct analysis of data from public comment.

(5) Maintain project milestones/deliverable dates (status report).

(6) Create reports for GAO, establish the baseline model of the Annual Public Law 106-107 Congressional Report, tracking 26 Federal Agency submission of their Annual Public Law 106-107 Agency Specific Report to Congress.

(7) Maintain a development/content of the Public Law 106-107 Web site.

c. Division of Grants Management Systems (AMT23): This Division plans, directs and coordinates the activities of the OG with respect to implementation of all electronic grants initiatives, such as: Grants.gov, Tracking Accountability in Government Grants Systems (TAGGS), One-HHS Grants Management Systems Consolidation, Government-wide Grants Management Line of Business, OG Internet/Intranet sites, for the Department. Represents the Department or the Office of Grants on matters of electronic assistance administration policy in dealing with recipients, OMB, other Federal agencies, and the public in general. The Division reports to the Director, Office of Grants Systems Modernization.

II. Continuation of Policy: Except as inconsistent with this reorganization, all statements of policy and interpretations with respect to the Office of Grants (AMT) and the Office of Finance (AMS) heretofore issued and in effect prior to this reorganization are continued in full force and effect.

III. Delegation of Authority: All delegations and redelegations of authority made to officials and employees of the Office of Grants (AMT) and the Office of Finance (AMS) will continue in them or their successors pending further redelegation, provided they are consistent with this reorganization.

IV. Funds, Personnel and Equipment: Transfer of organizations and functions affected by this reorganization shall be accompanied by direct and support funds, positions, personnel, records, equipment, supplies, and other sources.

Dated: June 30, 2006.
Michael Leavitt,
Secretary, Department of Health and Human Services.

[FR Doc. 06-6067 Filed 7-7-05; 8:45 am]

BILLING CODE 4150-24-M